ENVIRONMENTAL PROTECTION AGENCY

[ER-FRL-8992-1]

Environmental Impacts Statements; Notice Of Availability

Responsible Agency: Office of Federal Activities, General Information (202) 564-1399 or http://www.epa.gov/compliance/nepa/.

Weekly receipt of Environmental Impact Statements

Filed 07/26/2010 Through 07/30/2010

Pursuant to 40 CFR 1506.9.

Notice

In accordance with Section 309(a) of the Clean Air Act, EPA is required to make its comments on EISs issued by other Federal agencies public. Historically, EPA has met this mandate by publishing weekly notices of availability of EPA comments, which includes a brief summary of EPA's comment letters, in the Federal Register. Since February 2008, EPA has been including its comment letters on EISs on its Web site at: http://www.epa.gov/compliance/nepa/eisdata.html. Including the entire EIS comment letters on the website satisfies the Section 309(a) requirement to make EPA's comments on EISs available to the public. Accordingly, on March 31, 2010, EPA discontinued the publication of the notice of availability of EPA comments in the Federal Register.

EIS No. 20100283, Draft EIS, USFS, NM, Santa Fe National Forest Travel Management, Proposes to Provide for a System of Road, Trails, and Areas Designated for Motorized Use, Santa Fe, NM, Comment Period Ends: 09/30/2010, Contact: Julie Bain 505-438-5443.

EIS No. 20100284, Final EIS, USFS, MT, Lower West Fork Project, To Treat Units in and Adjacent to the Wildland-Urban-Interface (WUI) with Prescribed Fire, and Commercial and Pre-Commercial Thins, West Fork Ranger District, Bitterroot National Forest, Ravalli County, MT, Wait Period Ends: 09/07/2010, Contact: Dave M. Campbell 406-821-3269

EIS No. 20100285, Draft EIS, WAPA, SD, Groton Generation Station (GGS) Project, Proposes to Modify its Interconnection Agreement, Basin Electric Power Cooperative, for the (GGS) to Eliminate 50-Megawatts (MW) Annual Average Operating Limit, Brown County, SD, Comment Period Ends: 09/20/2010, Contact: Erika Walters 720-962-7279.

EIS No. 20100286, Draft EIS, FHWA, SC, Mark Clark Expressway Extension Project, Proposed Construction from the Interchange at I-526 and U.S. 17 to the James Island Connector, Charleston County, SC, Comment Period Ends: 09/30/2010, Contact: Patrick Tyndall 803-765-5460.

EIS No. 20100287, Final EIS, NPS, NY, Roosevelt-Vanderbilt National Historic Sites, General Management Plan, Implementation, Hyde Park, NY, Wait Period Ends: 09/07/2010, Contact: Marjorie Smith 339-223-0131.

EIS No. 20100288, Final EIS, BIA, OR, Cascade Locks Resort and Casino Project, Application for the Fee-to-Trust Transfer of 25 Acres of Land within the City of Cascade Locks, Confederated Tribes of the Warn Springs Reservation of Oregon, Cascade Locks, Hood River County, OR, Wait Period Ends: 09/07/2010, Contact: Scott Aikin 503-231-6883.

EIS No. 20100289, Draft EIS, USACE, CA, San Clemente Shoreline Protection Project, To Provide Shore Protection Through Nourishment of the Beach at the San Clemente Pier, San Clemente, CA, Comment Period Ends: 09/20/2010, Contact: Thomas W. Keeney 213-452-3875.

EIS No. 20100290, Final EIS, FHWA, MN, Trunk Highway 23 and US Highway 71 Project, Construction of One or More Grade-Separated Bridge Crossings, Dovre Township, Northeast of Wilmar County, Kandiyohi, MN, Wait Period Ends: 09/07/2010, Contact: Philip Forst 651-291-6110.

EIS No. 20100291, Draft EIS, USFS, CA, Sequoia National Forest Plan Amendment, Giant Sequoia National Monument, Comprehensive Management Plan, Implementation, CA, Comment Period Ends: 11/03/2010, Contact: Anne Thomas 559-784-1500 ext. 1164.

EIS No. 20100292, Final EIS, BLM, CA, Ivanpah Solar Electric Generating System (07-AFC-5) Project, Proposal to Construct a 400-m Megawatt Concentrated Solar Power Tower, Thermal-Electric Power Plant, San Bernardino County, CA, Wait Period Ends: 09/07/2010, Contact: Tom Hurshman 970-240-5345.

EIS No. 20100293, Final EIS, USN, CA, Marine Corps Base Camp Pendleton Basewide Utilities Infrastructure Construct and Operate Six Utility Infrastructure Project, San Diego County, CA, Wait Period Ends: 09/07/2010, Contact: Jesse Martinez 619-532-3844.

EIS No. 20100294, Final EIS, USN, FL, Renewal of Authorization to Use Pinecastle Range, New Information that was not Available in the 2002 FEIS, Continued Use of the Range for a 20 Year Period, Special Use Permit Issuance, Ocala National Forest, Marion and Lake Counties, FL, Wait Period Ends: 09/07/2010, Contact: Tom Currin 904-542-6301.

EIS No. 20100295, Final EIS, FHWA, OR, Sellwood Bridge Project, Rehabilitate or Replace the Bridge Crosses the Willamette River on Southeast Tacoma Street and Oregon State Highway 43, Funding, Multnomah County, OR, Wait Period Ends: 09/07/2010, Contact: Jeffrey Graham 503-587-4727.

EIS No. 20100296, Draft EIS, NOAA, 00, Columbia River Basin Hatchery Operations and the Funding of Mitchell Act Hatchery Program, To Authorize the Establishment, Operation and Maintenance of One or More Hatchery Facilities, OR, WA and ID, Comment Period Ends: 11/04/2010, Contact: Allyson Purcell 503-736-4736.

EIS No. 20100297, Final EIS, NRC, NE, Generic—License Renewal of Nuclear Plants, Regarding Cooper Nuclear Station, Unit 1, Supplement 41 to NUREG-1437, Nemaha County, NE, Wait Period Ends: 09/07/2010, Contact: Bennett M. Brady 301-415-2981.

EIS No. 20100298, Final EIS, USFS, WV, Allegheny Wood Product Easement, Proposes to Convey an Easement of Right-of-Way along the Railroad Grade located in the Blackwater Canyon Area, Monongahela National Forest, Tucker County, WV, Wait Period Ends: 09/07/2010, Contact: David Ede 304-636-1800 Ext 233.

EIS No. 20100299, Draft EIS, FERC, CA, McCloud-Pit Hydroelectric Project, (Project No. 2106) Application to Relicense its 368-Megawatt (MW), McCloud and Pit Rivers, Shasta County, CA, Comment Period Ends: 09/28/2010, Contact: Mary O'Driscoll 1-866-208-3372.

EIS No. 20100300, Draft EIS, BIA, CA, Cloverdale Rancheria of Pomo Indians (Tribe) Fee-to-Trust and Resort Casino Project, Taking Six Parcels into Federal Trust, Implementation, Sonoma County, CA, Comment Period Ends: 10/20/2010, Contact: John Rydzik 916-978-6051.

EIS No. 20100301, Final EIS, BIA, CA, Enterprise Rancheria Gaming Facility and Hotel Fee-To-Trust Acquisition Project, Implementation, Federal Trust, Estom Yumeka Maida Tribe, Yuba County, CA, Wait Period Ends: 09/07/2010, Contact: John Rydzik 916-978-6051.

EIS No. 20100302, Final EIS, BIA, CA, North Fork Rancheria of Mono Indians Fee-to-Trust and Casino/Hotel Project, Proposed 305-Acres-Fee-to-Trust Land Acquisition in Unincorporated Madera County, CA, Wait Period Ends: 09/07/2010, Contact: John Rydzik 916-978-6051.

EIS No. 20100303, Final EIS, BLM, CA, Calico Solar Project, Proposed Solar Thermal Electricity Generation Facility Located Public Lands, Construction and Operation, Right-of-Way Grant, San Bernardino County, CA, Wait Period Ends: 09/07/2010, Contact: Jim Stobaugh 775-861-6478.

Amended Notices

EIS No. 20100259, Draft EIS, FAA, RI, Theodore Francis Green Airport Improvement Program, Proposing Improvements to Enhance Safety and the Efficiency of the Airport and the New England Regional Airport System, City of Warwick, Kent County, RI, Comment Period Ends: 09/15/2010, Contact: Richard Doucette 781-238-7613.

Revision to FR Notice Published 07/26/2010: Extending Comment Period from 08/30/2010 to 9/15/2010.

EIS No. 20100274, Draft EIS, BLM, UT, VOIDED—Kerr-McGee Oil & Gas Onshore LP (KMG), Proposes to Conduit Infill Drilling to Develop the Hydrocarbon Resources Oil and Gas Leases, Application for Permit to Drill and Approval Right-of-Way Grants, Uintah County, UT, Comment Period Ends: 09/13/2010, Contact: Stephanie Howard 435-781-4400.

Revision to FR Notice Published 07/30/2010: The above DEIS was inadvertently published in 07/30/2010. The Official Filing was Published in FR on 07/16/2010 CEQ# 20100253.

Dated: August 3, 2010.
Robert W. Hargrove,
Director, NEPA Compliance Division, Office of Federal Activities.

[FR Doc. 2010-19430 Filed 8-5-10; 8:45 am]

BILLING CODE 6560-50-P